DEPARTMENT OF TRANSPORTATION

Federal Aviation Administration

14 CFR Part 73

[Docket No. FAA-2023-1972; Airspace Docket No. 22-AGL-39]

RIN 2120-AA66

Modification of Restricted Areas R-4201A and R-4201B; Camp Grayling, MI

AGENCY: Federal Aviation Administration (FAA), DOT.

ACTION: Notice of proposed rulemaking (NPRM).

SUMMARY: This action proposes to modify the designated altitudes of restricted area R-4201B, Camp Grayling, MI, by raising the restricted area ceiling from 9,000 feet mean sea level (MSL) to 23,000 feet MSL to match the ceiling of the adjacent restricted area R-4201A, Camp Grayling, MI. Additionally, this action proposes to make minor administrative changes to the R-4201B time of designation information and the R-4201A and R-4201B using agency information to standardize the format of the information provided describing these restricted areas.

DATES: Comments must be received on or before November 27, 2023.

ADDRESSES: Send comments identified by FAA Docket No. FAA-2023-1972 and Airspace Docket No. 22-AGL-39 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

Comments on environmental and land use aspects to should be directed to: Major Anthony E. Hylko, Alpena Environmental Manager, Alpena Combat Readiness Training Center (CRTC), Alpena, MI, 49707; email: anthony.hylko.2@us.af.mil or telephone: (989) 354-6212 (comm).

FAA Order JO 7400.10E, Special Use Airspace, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the restricted area airspace at Camp Grayling, MI, to enhance aviation safety and accommodate essential U.S. Army training requirements.

Comments Invited

The FAA invites interested persons to participate in this rulemaking by submitting written comments, data, or views. Comments are specifically invited on the overall regulatory, aeronautical, economic, environmental, and energy-related aspects of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address, phone number, and hours of operations). An informal docket may also be examined during normal business hours at the office of the Operations Support Group, Central Service Center, Federal Aviation Administration, 10101 Hillwood Parkway, Fort Worth, TX 76177.

Background

The Alpena Combat Readiness Training Center (CRTC), located in Alpena, MI, is a regional hub for the Air National Guard (ANG) and hosts Department of Defense (DoD) Large Force Exercises (LFE) every year; serving as a deployed location. Activities within the Alpena CRTC airspace complex allow combat air forces to practice weapon attack mechanics, target acquisition, and reaction to simulated surface-to-air threats while coordinating with friendly ground elements.

The Alpena Airspace Complex was originally created to support aircrew training during the buildup for World War II and has continued as a valuable training area for aircrews since. As the development of advanced 4th generation and current 5th generation fighter aircraft progressed, the airspace complex was not updated concurrently to take advantage of the full spectrum of training needs required to meet the changing tactics. In particular, the development of next generation fighters and weapons with advanced sensors and significantly greater standoff capabilities has created the requirement for additional hazardous activities maneuver airspace to set up for the employment of current weapons systems at the Grayling Range restricted areas. The DoD seeks to amend Military Operations Areas (MOA) and restricted areas in the Alpena Airspace Complex to address these changing needs. This proposed rule addresses the proposed changes to 14 CFR part 73 to amend the Grayling Range restricted areas.

The DoD has already initiated proposed changes to the Alpena MOAs as a part of a separate action. At the request of the United States Air Force (USAF), the FAA circulated a proposal to establish five new MOAs, modify the boundaries of three MOAs, and return one MOA to the National Airspace System (NAS).¹ Mission profiles in the proposed Alpena MOA airspace included typical MOA flight operations conducting tactical combat maneuvering by attack and transport category fixed wing aircraft involving abrupt, unpredictable changes in altitude, attitude, and direction of flight. The FAA accepted comments on the proposed MOA amendments from June 16 to August 3, 2023. These amendments do not require the FAA to conduct rulemaking or amend 14 CFR part 73. Accordingly, the FAA will document the MOA amendments in a separate non-regulatory publication.

¹ Airspace Study No. 23-AGL-361-NR circularized by the Central Service Center Operations Support Group on June 16, 2023, with a public comment period that ended August 3, 2023.

Collectively, the proposed changes to the MOAs and the proposed Grayling Range restricted area amendments would support DoD training scenarios designed to ensure air dominance of the airspace over the battlefield. Connecting the proposed Grayling Range R-4201A and R-4201B restricted areas with the proposed Alpena CRTC MOA airspace areas would enable the ANG to host and DoD to conduct training scenarios where fighter aircraft would fight their way into a target area, employ ordnance, and then egress from either low or high altitudes depending on the training threats confronted.

The Proposal

The FAA is proposing an amendment to 14 CFR part 73 by amending the Camp Grayling, MI, restricted areas R-4201A and R-4201B. This action would raise the ceiling of R-4201B from 9,000 feet MSL to 23,000 feet MSL to match the adjacent R-4201A ceiling, add a “tie-in” boundary point in the R-4201A boundaries description to ensure a shared R-4201A and R-4201B boundary, and make minor administrative changes to the existing R-4201B time of designation and the R-4201A and R-4201B using agency information.

The proposed amendment to raise the R-4201B ceiling to 23,000 feet MSL would match the restricted area ceiling with the adjacent R-4201A ceiling and connect the eastern boundaries of the two restricted areas equally with two new MOAs proposed to be established as part of the previously published non-rulemaking proposal to amend the Alpena CRTC Airspace Complex. Further, the proposed R-4201B 23,000-foot MSL ceiling would accommodate additional hazardous activity maneuvering airspace, longer standoff distance capabilities for using advanced targeting pod non-eye-safe combat lasers, and extended munition release distances required in support of current USAF precision guided munitions tactics and training. The proposed amendment to increase the ceiling of R-4201B would also support United States Army requirements for high-angle artillery fires with high-arching trajectories.

The proposed amendment to add an additional boundary point to the existing southern boundary of R-4201A would ensure a shared boundary with the northern boundary of R-4201B. The inclusion of the additional geographic coordinates located at latitude 44°47′00″ N, longitude 84°38′00″ W in the R-4201A description matches the geographic coordinates of the northwest corner of R-4201B and would not change the boundaries alignment for either restricted area.

The proposed administrative change to the existing R-4201B time of designation would not change when the restricted area is available to be scheduled. The proposed change would simply restate the existing times and days when the restricted area may be scheduled consistent with the FAA's special use airspace description format guidance. Additionally, administrative changes to the R-4201A and R-4201B using agency information would preface the existing using agency with “U.S. Army.” These administrative changes would not affect the scheduling, use, or activities conducted within the restricted areas.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for 14 CFR part 73 continues to read as follows:

Authority: 49 U.S.C. 106(f), 106(g), 40103, 40113, 40120; E.O. 10854, 24 FR 9565, 3 CFR, 1959-1963 Comp., p. 389.

§ 73.42 Michigan (MI) [Amended]

2. Amend § 73.42 to read as follows:

R-4201A Camp Grayling, MI [Amended]

Boundaries. Beginning at lat. 44°56′00″ N, long. 84°29′00″ W; to lat. 44°47′00″ N, long. 84°29′00″ W; to lat. 44°47′00″ N, long. 84°38′00″ W; to lat. 44°47′00″ N, long. 84°39′00″ W; to lat. 44°56′00″ N, long. 84°39′00″ W; to the point of beginning.

Designated altitudes. Surface to 23,000 feet MSL.

Time of designation. 0800-1600 local time, Tuesday-Saturday; other times by NOTAM.

Controlling agency. FAA, Minneapolis ARTCC.

Using agency. U.S. Army, Commander, Camp Grayling, Grayling, MI.

R-4201B Camp Grayling, MI [Amended]

Boundaries. Beginning at lat. 44°47′00″ N, long. 84°29′00″ W; to lat. 44°41′00″ N, long. 84°29′00″ W; to lat. 44°41′00″ N, long. 84°40′00″ W; to lat. 44°43′00″ N, long. 84°40′00″ W; to lat. 44°43′00″ N, long. 84°38′00″ W; to lat. 44°47′00″ N, long. 84°38′00″ W; to the point of beginning.

Designated altitudes. Surface to 23,000 feet MSL.

Time of designation. 0000-2359 local time, Saturday-Sunday; other times by NOTAM.

Controlling agency. FAA, Minneapolis ARTCC.

Using agency. U.S. Army, Commander, Camp Grayling, Grayling, MI.

* * * * *

Issued in Washington, DC, on October 5, 2023.
Karen L. Chiodini,
Acting Manager, Policy and Regulations Group.

[FR Doc. 2023-22472 Filed 10-12-23; 8:45 am]

BILLING CODE 4910-13-P